DEPARTMENT OF AGRICULTURE

Forest Service

Madera County Resources Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, June 16, 2003. The Madera Resource Advisory Committee will meet at the U.S.D.A. Forest Service Office, 57003 Road 225, North Fork, CA. The purpose of the meeting is: Take a short field trip for an on-site look at the goat brushing project, review any new RAC proposals, review progress of FY 2002 accounting, update on new Forest Service Region 5 RAC Web site, finalize Madera County RAC mission and clarify voting procedures.

DATES: The Madera Resource Advisory Committee meeting will be held Monday, June 16, 2003. The meeting will be held from 7 p.m. to 9 p.m.

ADDRESSES: The Madera County RAC meeting will be held at the U.S.D.A. Forest Service Office, 57003 Road 225, North Fork, CA.

FOR FURTHER INFORMATION CONTACT: Dave Martin, U.S.D.A., Sierra National Forest, 57003 Road 225, North Fork, CA 93643, (559) 877-2218 ext. 3100; e-mail: dmartin05@fs.fed.us.

SUPPLEMENTARY INFORMATION: Agenda items to be covered include: (1) Take a short field trip for an on-site look at the goat brushing project, (2) review any new RAC proposals, (3) review progress of FY 2002 accounting, (4) update on new Forest Service Region 5 RAC Web site, (5) finalize Madera County RAC mission, and (6) clarify voting procedures. Public input opportunity will be provided and individuals will have the opportunity to address the Committee at that time.

Dated: May 23, 2003.
David W. Martin,
District Ranger.

[FR Doc. 03-14383 Filed 6-6-03; 8:45 am]

BILLING CODE 3410-11-M